DEPARTMENT OF DEFENSE

Notice of Calendar Year (CY) 2021 TRICARE Prime and TRICARE Select Out-of-Pocket Expenses

AGENCY: Office of the Secretary, Department of Defense.

ACTION: TRICARE notice.

SUMMARY: This notice provides the CY 2021 TRICARE Prime and TRICARE Select out-of-pocket expenses.

DATES: The CY21 rates contained in this notice are effective on or after January 1, 2021.

ADDRESSES: Defense Health Agency (DHA), TRICARE Health Plan, 7700 Arlington Boulevard, Suite 5101, Falls Church, Virginia 22042-5101.

FOR FURTHER INFORMATION CONTACT: Mark A. Ellis, telephone (703) 275-6234.

SUPPLEMENTARY INFORMATION: The National Defense Authorization Acts (NDAAs) for Fiscal Year (FY) 2012 and 2017 established rates for TRICARE beneficiary out-of-pocket expenses and how they may be increased by either the annual cost of living adjustment (COLA) percentage used to increase military retired pay or via budget neutrality rules. The FY 2021 retiree COLA increase is 1.3%.

The DHA has updated the CY21 out-of-pocket expenses as shown below:

BILLING CODE 5001-06-P

The CY21 rates contained in this notice are effective on or after January 1, 2021.

Dated: November 17, 2020.
Aaron T. Siegel,
Alternate OSD Federal Register Liaison Officer, Department of Defense.

[FR Doc. 2020-25700 Filed 11-19-20; 8:45 am]

BILLING CODE 5001-06-C